DEPARTMENT OF HEALTH AND HUMAN SERVICES

HHS Approval of Entities That Certify Medical Review Officers

AGENCY: Substance Abuse and Mental Health Services Administration, Department of Health and Human Services.

ACTION: Notice.

SUMMARY: The current version of the Department of Health and Human Services (HHS) Mandatory Guidelines for Federal Workplace Drug Testing Programs (Mandatory Guidelines), effective on October 1, 2010, addresses the role and qualifications of Medical Review Officers (MROs) and HHS approval of entities that certify MROs. As required under Section 13.1(b) of the Mandatory Guidelines, this notice publishes a list of HHS approved MRO certification entities.

FOR FURTHER INFORMATION CONTACT: Sean J. Belouin, Pharm.D., CAPT, United States Public Health Service, Senior Pharmacology and Regulatory Policy Advisor, Substance Abuse and Mental Health Services Administration, 5600 Fishers Lane, Room 16N06D, Rockville, Maryland 20857; Telephone: (240) 276-2716; Email: sean.belouin@samhsa.hhs.gov.

SUPPLEMENTARY INFORMATION: Subpart M-Medical Review Officer (MRO), Section 13.1(b) of the Mandatory Guidelines, “Who may serve as an MRO?” states as follows: “Nationally recognized entities that certify MROs or subspecialty boards for physicians performing a review of Federal employee drug testing results that seek approval by the Secretary must submit their qualifications and a sample examination. Based on an annual objective review of the qualifications and content of the examination, the Secretary shall publish a list in the Federal Register of those entities and boards that have been approved.”

HHS has completed its review of entities that certify MROs, in accordance with requests submitted by such entities to HHS.

The HHS Secretary approves the following MRO certifying entities that offer MRO certification through examination:

American Association of Medical Review Officers (AAMRO), P.O. Box 12873, Research Triangle Park, NC 27709, Phone: (800) 489-1839, Fax: (919) 490-1010, Email: bbrandon@aamro.com, Web site: http://www.aamro.com/.

Medical Review Officer Certification Council (MROCC), 3231 S. Halsted St, #167, Chicago, IL 60608, Phone: (847) 631-0599, Fax: (847) 483-1282, Email: mrocc@mrocc.org, Web site: http://www.mrocc.org/.

DATES: HHS approval is effective June 30, 2017.

Dated: June 30, 2017.
Thomas E. Price,
Secretary.

[FR Doc. 2017-14154 Filed 6-30-17; 4:15 pm]

BILLING CODE 4162-20-P